DEPARTMENT OF LABOR

Employment and Training Administration

Notification of the Recovery and Reemployment Research Conference

AGENCY: Employment and Training Administration, Labor.

ACTION: Notice of the Recovery and Reemployment Research Conference.

SUMMARY: The Employment and Training Administration will host a Recovery and Reemployment Research Conference on September 15 and 16, 2009 at the L'Enfant Plaza Hotel in Washington, DC.

Purpose and Agenda: The conference is designed to give the workforce community an opportunity to engage with experts and colleagues to broaden their understanding of critical labor issues and challenges in the present economy. This conference translates specific research, pilot, demonstration, and evaluation efforts into actionable strategies that can be used in the workforce system. The conference, from a research perspective, builds on the success of the ReEmployment Works! Summit and subsequent Regional Recovery and Reemployment Forums. Participants will have the opportunity to hear about workforce strategies for green jobs, entrepreneurship, training, unemployment and reemployment services, and research and policy tools to manage and improve the systems. A goal of the conference is for participants to gain insight into what works and what can be replicated in communities across the nation. The conference will feature a combination of plenary sessions and workshops, including presentations by ETA leaders.

DATES: The conference runs from 8:30 a.m. to 4:30 p.m. on Tuesday, September 15, 2009 and from 8:30 a.m. to 4 p.m. on Wednesday, September 16, 2009.

FOR FURTHER INFORMATION CONTACT: Registration and additional information for the Recovery and Reemployment Research Conference can be accessed at http://www.RecoveryandReemployment.com. For additional information related to registering for the research conference, contact Lauren Focarazzo of IMPAQ International, the logistical contractor for the conference, at lfocarazzo@impaqint.com or 1-866-677-4283 (this is a toll-free number). For other inquiries, contact Janet Javar, Office of Policy Development and Research, USDOL/ETA, at javar.janet@dol.gov or 200 Constitution Ave., NW., Room N-5641, Washington, DC 20210.

SUPPLEMENTARY INFORMATION: Space is limited. There is no cost to register. Interested individuals are encouraged to register as soon as possible.

Signed at Washington, DC, this 7th day of August, 2009.
Jane Oates,
Assistant Secretary, Employment and Training Administration.

[FR Doc. E9-19516 Filed 8-13-09; 8:45 am]

BILLING CODE 4510-FM-P